DEPARTMENT OF HEALTH AND HUMAN SERVICES

Administration for Children and Families

Submission for OMB Review; Current Population Survey-Child Support Supplement (OMB No.: 0970-0416)

AGENCY: Office of Child Support Enforcement, Administration for Children and Families, HHS.

ACTION: Request for public comment.

SUMMARY: The Office of Child Support Enforcement (OCSE), Administration for Children and Families (ACF) is requesting the federal Office of Management and Budget (OMB) approve the Current Population Survey-Child Support Supplement (CPS-CSS), with minor revisions, for an additional three years. The current OMB approval expires on August 31, 2022.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The CPS-CSS collects detailed information on support agreements and awards, including both required payments and amounts received, as well as data about the socioeconomic characteristics of custodial parents and their families. Data collected pertaining to child support, and the subsequent analysis of survey data, will assist legislators and policymakers in determining the efficacy of various child support legislation. Minor changes are being proposed for the 2023 information collection.

Respondents: Individuals and households.

Annual Burden Estimates: On February 2, 2022 ACF invited comments on this information collection (87 FR 6568). During this time, the U.S. Census Bureau informed the Office of Child Support Enforcement that it planned to change the way in which the questions were fielded. In previous years, all households were asked an initial set of questions and a select number were asked the remaining questions. To improve data quality, fewer households will be asked to participate, but they will be asked all questions on the survey. This change reduces the overall number of respondents significantly (34,500 to 3,600) but increases the time per response from about 2 minutes to about 20 minutes. The following estimates reflect estimates based on this new approach.

Instrument | Total number of respondents | Number of responses per respondent | Average burden hours per response | Total burden hours
Current Population Survey-Child Support Supplement | 3,600 | 1 | 0.3333 | 1,200

Estimated Total Annual Burden Hours: 1,200.

(Authority: 13 U.S.C. 182)

Mary B. Jones,
ACF/OPRE Certifying Officer.

[FR Doc. 2022-11827 Filed 6-1-22; 8:45 am]

BILLING CODE 4184-41-P